DEPARTMENT OF THE INTERIOR

Minerals Management Service

Agency Information Collection Activities: Proposed Collection; Comment Request

AGENCY: Minerals Management Service (MMS), Interior.

ACTION: Notice of revision of an information collection (1010-0041).

SUMMARY: To comply with the Paperwork Reduction Act of 1995 (PRA), MMS is inviting comments on a collection of information that we will submit to the Office of Management and Budget (OMB) for review and approval. The information collection request (ICR) concerns the paperwork requirements in the regulations under 30 CFR 250, subpart K, “Oil and Gas Production Rates.”

DATES: Submit written comments by April 11, 2005.

ADDRESSES: You may submit comments on the burden by any of the following methods listed below. Please use OMB control number 1010-0041 as an identifier in your message.

• MMS's Public Connect on-line commenting system, https://ocsconnect.mms.gov. Follow the instructions on the website for submitting comments.

• Federal eRulemaking Portal: http://www.regulations.gov. Follow the instructions on the website for submitting comments.

• E-mail MMS at rules.comments@mms.gov. Use 1010-0041 in the subject line.

• Fax: 703-787-1093. Identify with 1010-0041.

• Mail or hand-carry comments to the Department of the Interior; Minerals Management Service; Attention: Rules Processing Team (RPT); 381 Elden Street, MS-4024; Herndon, Virginia 20170-4817. Please reference Information Collection 1010-0041 in your comments and include your name and return address.

FOR FURTHER INFORMATION CONTACT: Cheryl Blundon, Rules Processing Team at (703) 787-1600. You may also contact Cheryl Blundon to obtain a copy, at no cost, of the regulations and the forms that require the subject collection of information.

SUPPLEMENTARY INFORMATION: Title: 30 CFR Part 250, Subpart K, Oil and Gas Production Rates.

OMB Control Number: 1010-0041.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.”

Section 1334(g)(2) states ”* * * the lessee shall produce such oil or gas, or both, at rates * * * to assure the maximum rate of production which may be sustained without loss of ultimate recovery of oil or gas, or both, under sound engineering and economic principles, and which is safe for the duration of the activity covered by the approved plan.”

These authorities and responsibilities are among those delegated to the Minerals Management Service (MMS). The regulations at 30 CFR part 250, subpart K, concern oil and gas production rates, and are the subject of this collection.

In addition, MMS also issues various Notices to Lessees (NTLs) and Operators to clarify and provide additional guidance on some aspects of the regulations, as well as various forms to capture the data and information. The current subpart K regulations specify the use of forms MMS-126 (Well Potential Test Report, OMB Control Number 1010-0039, expiration 10/31/07), MMS-127 (Sensitive Reservoir Information Report, OMB Control Number 1010-0018, expiration 10/31/07), and MMS-128 (Semiannual Well Test Report, OMB Control Number 1010-0017, expiration 8/31/05), all of which were approved individually by OMB and assigned separate control numbers. This submission also includes the burden for form MMS-140 (Bottomhole Pressure Survey Report). Form MMS-140 is used in the Gulf of Mexico OCS Region (GOMR) for submitting the results of static bottomhole pressure surveys required under § 250.1104(c). With this submission, we are merging the collections for the general use requirements of 30 CFR 250.1100, Oil and Gas Production Rates, as well as the collections for the four forms associated with subpart K into the primary collection for subpart K, OMB Control Number, 1010-0041.

The forms and their purposes are:

Form MMS-126, Well Potential Test Report

MMS uses this information for various environmental, reservoir, reserves, and conservation analyses, including the determination of maximum production rates (MPRs) when necessary for certain oil and gas completions. This requirement implements the conservation provisions of the OCS Lands Act and 30 CFR 250. The information obtained from the well potential test is essential to determine if an MPR is necessary for a well and to establish the appropriate rate. It is not possible to specify an MPR in the absence of information about the production rate capability (potential) of the well.

Form MMS-127, Sensitive Reservoir Information Report

MMS uses this information to determine whether a rate-sensitive reservoir is being prudently developed. This represents an essential control mechanism that MMS uses to regulate production rates from each sensitive reservoir being actively produced. Occasionally, the information available on a reservoir, early in its producing life, may indicate it to be non-sensitive, while later and more complete information would establish the reservoir as being sensitive. Production from a well completed in the gas cap of a sensitive reservoir requires approval from the Regional Supervisor. The information submitted on this form provides reservoir parameters that are revised at least annually or sooner if reservoir development results in a change in reservoir interpretation. The engineers and geologists use the information for rate control and reservoir studies.

Form MMS-128, Semiannual Well Test Report

MMS uses this information to evaluate the results of well tests to determine if reservoirs are being depleted in a manner that will lead to the greatest ultimate recovery of hydrocarbons. This information is collected to determine the capability of hydrocarbon wells and to evaluate and verify an operator's approved maximum production rate if assigned. The form was designed to present current well data on a semiannual basis, to permit the updating of permissible producing rates, and to provide the basis for estimates of currently remaining recoverable gas reserves.

Form MMS-140, Bottomhole Pressure Survey Report

MMS uses the information in our efforts to conserve natural resources, prevent waste, and protect correlative rights, including the Government's royalty interest. Specifically, MMS uses the information to determine maximum production and efficient rates and to review applications for downhole commingling to ensure that action does not result in harm to ultimate recovery or undervalued royalties.

We will protect information from respondents considered proprietary under the Freedom of Information Act (5 U.S.C. 552) and its implementing regulations (43 CFR part 2) and under regulations at 30 CFR 250.196, “Data and information to be made available to the public.” No items of a sensitive nature are collected. Responses are mandatory.

Frequency: On occasion, monthly, semi-annually, annually and as a result of situations encountered.

Estimated Number and Description of Respondents: Approximately 151 Federal OCS permittees or notice filers.

Estimated Reporting and Recordkeeping “Hour” Burden: The currently approved annual reporting burdens totaled for the consolidated collection is 18,961 hours. The following chart details the individual components and respective hour burden estimates of this ICR. In calculating the burdens, we assumed that respondents perform certain requirements in the normal course of their activities. We consider these to be usual and customary and took that into account in estimating the burden.

Citation 30 CFR 250 Subpart K and NTL(s) | Reporting & recordkeeping requirement | Hour burden
1101(b) | Request approval to produce within 500 feet of a lease line | 5
1101(c) | Request approval to produce gas cap of a sensitive reservoir | 12
1102 | Submit form MMS-126 | 0.2
| Submit form MMS-127 | 1.5
| Submit form MMS-128 | 0.5-3
1102(a)(5) | Submit alternative plan for overproduction status—MMS is not currently collecting this information
1102(b)(6) | Request extension of time to submit results of semiannual well test | 0.5
1103(a) | Request approval of test periods of less than 4 hours and pretest stabilization periods of less than 6 hours | 0.5
1103(c) | Provide advance notice of time and date of well tests | 0.5
1104(c) | Submit results of all static bottomhole pressure surveys obtained by lessee. Information is submitted on form MMS-140 in the Gulf of Mexico Region | 1
1105(a), (b) | Request special approval to flare or vent oil-well gas | 0.5
1105(c) | Request approval to burn produced liquid hydrocarbons | 0.5
1105(f) | Submit monthly reports of flared or vented gas containing H2S | 2
1106 | Submit application to commingle hydrocarbons produced from multiple reservoirs and inform other lessees having an interest | 6
1107(b) | Submit proposed plan for enhanced recovery operations | 12
1107(c) | Submit periodic reports of volumes of oil, gas, or other substances injected, produced, or reproduced | 2
1100-1107 | General departure or alternative compliance requests not specifically covered elsewhere in subpart K, including bottomhole pressure survey waivers and reservoir reclassification requests | 1 6
Reporting Subtotal
1105(d), (e) | Maintain records for 2 years detailing gas flaring or venting | 13
1105(d), (e) | Maintain records for 2 years detailing liquid hydrocarbon burning | 0.5

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency ”* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedure: MMS's practice is to make comments, including names and addresses of respondents, available for public review. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: February 1, 2005.
E.P. Danenberger,
Chief, Office of Offshore Regulatory Programs.

[FR Doc. 05-2425 Filed 2-7-05; 8:45 am]

BILLING CODE 4310-MR-P